DEPARTMENT OF TRANSPORTATION

Federal Transit Administration

Environmental Impact Statement for the Permanent PATH Terminal at World Trade Center in New York, NY

AGENCY: Federal Transit Administration (FTA), DOT.

ACTION: Notice of intent to prepare an Environmental Impact Statement (EIS).

SUMMARY: The FTA, in cooperation with the Port Authority of New York and New Jersey (PANYNJ), intends to prepare an Environmental Impact Statement (EIS) on a proposal to create a new Permanent Port Authority Trans Hudson (PATH) Terminal at the World Trade Center (WTC) site.

The proposed project would consist of a track and platform level, an associated mezzanine/fare equipment level, and a terminal building incorporating sub-grade pedestrian connections in all directions to adjacent streets, New York City Transit (NYCT) subways, and on and off-site developments. The PATH tubes, tracks, platforms, and mezzanine would be located on the west portion of the WTC site between Greenwich and West Streets as they were prior to the September 11, 2001, attacks that destroyed the World Trade Center and the previous World Trade Center PATH Terminal. The platform level would contain four platforms and five tracks, and fare equipment would be located on the mezzanine level. A new terminal building would be constructed with a connection to the PATH mezzanine below it. The terminal building would provide pedestrian access to PATH from three levels. The lower concourse would have connections to the future buildings on the WTC site and off-site development across West, Vesey, and Church Streets. The upper concourse level would reestablish access to the NYCT stations on the 1/9, N, R, and E routes and would provide a possible connection to NYCT's proposed Fulton Street Transit Center for access to NYCT stations on the 2, 3, 4, 5, J, M, Z, A, and C routes. (The Fulton Street Transit Center is the subject of a separate environmental review by FTA.) At street-level, patrons could access via Church Street. The EIS is being prepared in accordance with the National Environmental Policy Act (NEPA) of 1969 and the applicable regulations implementing NEPA, as set forth in 23 CFR part 771 and 40 CFR parts 1500-1508.

The EIS will evaluate a No Action Alternative, a Build Alternative and any reasonable alternative generated by the scoping process. Scoping will be accomplished through meetings and correspondence with interested persons, organizations, and Federal, state, regional and local agencies.

DATES: The public is invited to participate in project scoping on October 8, 2003, in New Jersey and on October 9, 2003, in New York at the locations identified under ADDRESSES below. To ensure that all significant issues are identified and considered, two sessions will be held at each meeting: 2 p.m. to 5 p.m. and 6 p.m. to 9 p.m. Poster boards depicting the project concept will be available for review at the meeting location. A formal presentation by the PANYNJ will be made at 2:30 p.m. and at 6:30 p.m. followed by the opportunity for the public to comment on the scope of the EIS. Representatives of the PANYNJ will be available during the poster session for informal comments and questions. Those wishing to speak are required to register at the meeting location before 2:30 p.m. or 6:30 p.m. Additional speakers will be invited until there are no more requesting to be heard. Subsequent opportunities will be announced on the Internet, by mail, and through other appropriate means, and will be conducted throughout the study area. Additional information may be obtained from the project's Web site: www.panynj.gov/PATHRestoration. Written comments on the scope of the EIS should be sent to the PANYNJ Project Manager by 5 p.m. eastern daylight time on October 29, 2003, at the address given under ADDRESSES below.

ADDRESSES: The public scoping meeting in New York will be held at Alexander Hamilton Custom House, One Bowling Green, New York, New York. The New Jersey Scoping Meeting will be held at Hudson County Administration Annex Freeholder's Chambers, Jersey City, New Jersey. Both locations are accessible by persons with disabilities. If language translation or signing is needed, please notify PANYNJ at (212) 435-5599 at least one week in advance of the meeting. Written comments will be accepted at the meeting or may be sent to the following address at any time during the scoping period: Mr. Anthony Cracchiolo, PANYNJ Priority Capital Programs, 115 Broadway, 5th Floor, New York, NY 10006. The scoping document may also be requested by writing to this address or by calling (212) 435-5599. Requests to be placed on the project's mailing list may also be made by calling this number or writing to the project address above.

FOR FURTHER INORMATION CONTACT: Ms. Susan E. Schruth, Director, Lower Manhattan Recovery Office, Federal Transit Administration, One Bowling Green, Room 436, New York, NY 10004; Telephone: (212) 668-1770.

SUPPLEMENTARY INFORMATION:

I. Scoping

FTA and PANYNJ invite interested individuals, organizations, Federal, State, and local agencies to provide comments on the scope of the Permanent WTC PATH Terminal EIS. During the scoping process, comments should focus on specific social, economic, and/or environmental issues to be evaluated, and on suggesting reasonable alternatives that may be less costly or have fewer environmental impacts while addressing the purpose and need for the project. To assist interested parties in formulating their comments, a scoping document has been prepared and is available on the PANYNJ Web site address noted above, or upon request from the PANYNJ representative identified above. The scoping information document includes the project's purpose and need, goals and objectives, a preliminary list of alternatives and a description of each, and environmental areas that will be addressed during the course of the study. An outline of the ongoing public participation effort is also contained in the information document and on the Internet site given above.

II. Description of the Project Area

PATH is a heavy-rail system that serves a total of 13 stations in New York and New Jersey. The terrorist attacks of September 11, 2001 (9/11), resulted in the destruction of the PATH Terminal at the World Trade Center. Prior to 9/11, PATH operated four routes, two of which terminated at the World Trade Center (WTC): Newark-WTC and Hoboken-WTC. In addition to providing direct service to Lower Manhattan from Newark, Jersey City, and Hoboken, intermodal connections along these routes allowed for transfers between PATH and New Jersey Transit (NJT) commuter rail, Newark city subway, New York City subways, trans-Hudson ferries, and the Hudson-Bergen Light Rail. Prior to 9/11, Lower Manhattan was the nation's third largest Central Business District with approximately 120 million square feet of office space. More than 388,000 employees worked in Lower Manhattan, 16 percent of whom commuted from New Jersey and other points west of the Hudson River. PATH served as the principal mode of travel for New Jersey's commuters to Lower Manhattan.

The WTC PATH Terminal was located within and beneath the WTC retail concourse on the western portion of the site. It provided a weatherproof connection to the WTC office towers and the World Financial Center. Street-level access served commuters traveling north, east, and south of the WTC site. Within the retail concourse, WTC PATH patrons could connect with subway stations on NYCT's 1/9, E, and N/R routes.

The WTC and its PATH Terminal were a major downtown destination for commuters and visitors. Patrons of the PATH system could easily access the WTC, World Financial Center, the Financial District, and the Civic Center. PATH served not only as the principal connection to Lower Manhattan for New Jersey's commuters but also as an important link between Lower Manhattan and office centers in Jersey City, Newark, and Hoboken.

III. Problem Identification

Prior to 9/11, the WTC PATH Terminal provided the primary transit link to Lower Manhattan from New Jersey, serving local markets in Hudson and Essex counties and providing a key linkage for New Jersey Transit rail commuters on routes at major transit hubs at Penn Station Newark and Hoboken Terminal. The WTC PATH Terminal served over 67,000 PATH passengers daily and was operating near capacity during peak hours. This Terminal was destroyed during the 9/11 terrorist attacks.

Since 9/11, PANYNJ has undertaken projects to temporarily restore PATH service to Lower Manhattan and to stabilize below-grade portions of the WTC site. PANYNJ is currently constructing a temporary PATH station with Federal Emergency Management Agency (FEMA) funding. Scheduled to open in November 2003, the temporary station is located in the southeast portion of the WTC site and will provide four tracks and three platforms in a configuration to accommodate 8-car PATH trains. The station will provide pedestrian access through the eastern portion of the WTC site to Church Street. Although the temporary WTC PATH station will allow restoration of service, it will not fully restore the pedestrian connections or the capacity that previously existed at the WTC PATH Terminal. Moreover, the temporary station was designed and constructed to have only a short-term service life to serve the transportation need while more lasting decisions about the WTC site are being made. Without a permanent Terminal, there will not be an adequate transit link between Lower Manhattan and New Jersey when the temporary PATH station must be retired in several years.

IV. Purpose and Need for the Proposed Action

The Permanent WTC PATH Terminal is proposed to be a full service, regional transportation hub that will be integrated with the existing and future transportation infrastructure, WTC site development, and the surrounding area. The project is needed to reestablish and enhance transportation facilities and infrastructure that existed at the WTC complex prior to September 11, 2001, and to ensure the long-term accessibility and economic vitality of Lower Manhattan.

V. Alternatives

Once the WTC site was stabilized after the destruction of 9/11, a review was undertaken by the PANYNJ to examine feasible alternatives for the reconstruction of a PATH Terminal. In developing these alternatives, PANYNJ considered the limitations of the previous WTC PATH Terminal and compatibility with other improvements proposed for downtown including the potential future Fulton Street Transit Center, reconstruction on the WTC site, and alternatives for Highway Route 9A. Four alternative locations were developed and evaluated: Reconstruction of PATH in the pre-9/11 location; new Church Street Terminal; new Vesey Street Terminal; and stub-end Broadway-Nassau Terminal. Preliminary analysis showed that both the Vesey and Broadway-Nassau Street options would not provide for significant improvements in service as compared to the pre-9/11 condition and would result in suspension of temporary PATH service during construction. While the Church Street option would provide for similar service and local transit connections as the pre-9/11 location, it would be more costly, would result in a longer connection to the World Financial Center, and would limit the development potential for the WTC site. After careful consideration of these design options, PANYNJ has opted to carry forward the pre-9/11 location for further study. Alternatives proposed for further study are:

• No Action Alternative: The No Action alternative consists of the transportation facilities and real estate development most likely to be in place in the design year if the proposed project is not built. The future No Action Alternative reflects the assumption that Lower Manhattan development is expected to return to pre-9/11 densities in the vicinity of the project. The No Action Alternative will serve as the baseline against which the operational impacts of the proposed project are compared. The baseline for measuring the construction impacts of the project will be the conditions at the time of construction if the project were not built. Today's traffic, noise, air quality, and other conditions provide the best available estimate of the construction period conditions without the project.

• Proposed Action Alternative: The proposed action would be to reconstruct the temporary WTC PATH station as a permanent terminal and to build a station house with above-grade connections to the street and below-grade pedestrian connections to the buildings on the WTC site, NYCT subways, and off-site developments across Church, Vesey, and West Streets. Since the reestablishment of the WTC PATH Terminal will support the larger redevelopment of Lower Manhattan, design alternatives for other projects may require modifications to the design of the Permanent WTC PATH Terminal. These station design options will be considered in the EIS.

VI. Potential Adverse Effects

Upon its completion, the proposed Permanent WTC PATH Terminal is expected to restore and enhance the transit service to Lower Manhattan with few, if any, long-term adverse operational effects. In light of this, and in consideration of other new construction activity that is expected to occur in Lower Manhattan over the next decade, it is anticipated that construction-related impacts from the proposed project may be the most important aspect of the environmental evaluation under NEPA. Potential effects associated with the construction phase include impacts to: Vehicular and pedestrian access and circulation; noise and vibration; air quality; architectural and archeological resources; water quality; potential disturbance to contaminated and/or hazardous materials, which may be present in the area; economic conditions; and neighborhood character. The short-term cumulative effects of construction of this project and other Lower Manhattan recovery projects will be a major focus of the impact assessment. The long-term operational issues and impacts of the alternatives to be considered in the EIS include economic development; neighborhood character; cultural resources; transit operations; and pedestrian circulation to, from, and within the Terminal. In addition, the EIS will describe the methodology used to assess impacts; identify the affected environment; and identify opportunities and measures for mitigating adverse impacts that are unavoidable.

VII. FTA Procedures

During the NEPA process, FTA also will comply with the requirements of the National Historic Preservation Act (16 U.S.C., 469-470), Section 4(f) of the Department of Transportation Act (49 U.S.C. 303), and other applicable environmental statutes, rules, and regulations, in accordance with FTA policy.

After the scoping process, a Draft EIS will be prepared and made available for public and agency review and comment. One or more public hearings will be held on the Draft EIS. On the basis of the Draft EIS and the public and agency comments thereon, a preferred alternative will be selected and will be fully described and further developed in the Final EIS.

Issued on: September 17, 2003.
Susan E. Schruth,
Director, Lower Manhattan Recovery Office.

[FR Doc. 03-24433 Filed 9-25-03; 8:45 am]

BILLING CODE 4910-57-P